DEPARTMENT OF TRANSPORTATION

Surface Transportation Board

[Docket No. FD 35544]

DesertXpress Enterprises, LLC and DesertXpress HSR Corporation—Construction and Operation Exemption—in Victorville, CA and Las Vegas, NV

AGENCY: Surface Transportation Board, DOT.

ACTION: Notice of construction and operation exemption.

SUMMARY: The Board grants an exemption under 49 U.S.C. 10502 from the prior approval requirements of 49 U.S.C. 10901 for DesertXpress Enterprises, LLC and its subsidiary (DXE) to build and operate a 190-mile rail line between Victorville, Cal. and Las Vegas, Nev., in order to provide high-speed passenger rail service. This exemption is subject to environmental mitigation conditions and the condition that DXE build the route designated as environmentally preferable.

DATES: The exemption will be effective on November 25, 2011; petitions to reopen must be filed by November 15, 2011.

ADDRESSES: An original and 10 copies of all pleadings, referring to Docket No. FD 35544, must be filed with the Surface Transportation Board, 395 E Street, SW., Washington, DC 20423-0001. In addition, one copy of all pleadings must be served on petitioner's representative: Linda J. Morgan, Nossaman LLP, 1666 K Street, NW., Suite 500, Washington, DC 20006.

Copies of filings will be available for viewing at the Board's Web site.

FOR FURTHER INFORMATION CONTACT: Joseph H. Dettmar at 202-245-0395. Assistance for the hearing impaired is available through the Federal Information Relay Service (FIRS) at 1-800-877-8339.

SUPPLEMENTARY INFORMATION: Additional information is contained in the Board's decision, which is available on our Web site at: “http://www.stb.dot.gov”.

Decided: October 20, 2011.
By the Board, Chairman Elliott, Vice Chairman Begeman, and Commissioner Mulvey.
Jeffrey Herzig,
Clearance Clerk.

[FR Doc. 2011-27679 Filed 10-25-11; 8:45 am]

BILLING CODE 4915-01-P